DEPARTMENT OF HEALTH AND HUMAN SERVICES

Indian Health Service

[Funding Announcement Number HHS-2012-IHS-TSGP-0001]

Funding Opportunity: Tribal Self-Governance Program; Planning Cooperative Agreement

Catalog of Federal Domestic Assistance Number: 93.444.

Announcement Type: New—Limited Competition.

Key Dates

Application Deadline Date: September 9, 2012.

Review Date: September 12, 2012.

Earliest Anticipated Start Date: September 30, 2012.

Signed Tribal Resolutions Due Date: September 11, 2012.

I. Funding Opportunity Description

Statutory Authority

The Indian Health Service (IHS) Office of Tribal Self-Governance (OTSG) is accepting limited competition Planning Cooperative Agreement applications for the Tribal Self-Governance Program (TSGP). This program is authorized under Public Law (Pub. L.) 106-260, the Tribal Self-Governance Amendments of 2000; Title V of the Indian Self-Determination and Education Assistance Act (ISDEAA), Public Law 93-638, as amended; and the Snyder Act, Public Law 67-85 (25 U.S.C. 13). This program is described in the Catalog of Federal Domestic Assistance (CFDA) under 93.444.

Background

The TSGP is more than an IHS program; it is an expression of the government-to-government relationship between the United States and each Indian Tribe. Through the TSGP, Tribes negotiate with the IHS to assume IHS programs, services, functions, and activities (PSFAs), or portions thereof, to manage them to best fit their Tribal communities. Participation in the TSGP is one of three ways that Tribes can choose to obtain health care from the Federal Government for their members. Specifically, Tribes can choose to: (1) Receive health care services directly from the IHS, (2) contract with the IHS to administer individual programs and services the IHS would otherwise provide (referred to as Title I Self-Determination Contracting), and (3) compact with the IHS to assume control over health care programs the IHS would otherwise provide (referred to as Title V Self-Governance Compacting or the TSGP). These options are not exclusive; Tribes may choose to combine them based on their individual needs and circumstances. Participation in the TSGP affords Tribes the most flexibility to tailor health care services to the needs of their communities. The TSGP is and always has been a Tribally driven initiative, and strong Federal-Tribal partnerships have been critical to the program's success. The OTSG serves as the primary liaison and advocate for Tribes participating in the TSGP and was established to implement Tribal Self-Governance legislation and authorities within the IHS. The OTSG develops, directs, and implements Tribal Self-Governance policies and procedures; provides information and technical assistance to Self-Governance Tribes; and advises the IHS Director on Agency compliance with TSGP policies, regulations and guidelines. Each IHS Area has an Agency Lead Negotiator (ALN) that negotiates Self-Governance instruments (Compacts and Funding Agreements) on behalf of the IHS Director. To begin the Self-Governance planning process, a Tribe should contact the ALN. The ALN will provide an overview of the TSGP and will provide technical assistance as the Tribe explores the option of participating in the TSGP.

Purpose

The purpose of this Planning Cooperative Agreement is to provide resources to Tribes interested in participating in the TSGP. Title V of the ISDEAA requires that a Tribe or Tribal Organization complete a planning phase to the satisfaction of the Tribe. The planning phase must include legal and budgetary research and internal Tribal government planning and organization preparation relating to the administration of health care programs. See 25 U.S.C. 458aaa-2(c)(1)(A). The planning phase helps Tribes to make informed decisions about which PSFAs, or portions thereof, to assume and what organizational changes will be necessary to support those PSFAs. A thorough planning phase makes the rest of the negotiations process more timely and efficient. Planning helps to identify issues in advance and ensures that the Tribe is fully prepared for the transfer of IHS PSFAs to the Tribal health program. The ultimate goal of the planning stage is to ensure that the Tribe is aware of the responsibility involved in assuming IHS PSFAs.

Limited Competition Justification

There is limited competition under this announcement because the authorizing legislation restricts eligibility to Tribes that meet specific criteria (refer to Section III.1. Eligibility, of this announcement). See 25 U.S.C. 458aaa-2(e); 42 CFR 137.24-25; see also 42 CFR 137.10. The Tribes eligible to compete for the Planning Cooperative Agreements include: any Indian Tribe that has not previously received a Planning Cooperative Agreement; any Indian Tribe that has previously received Planning Cooperative Agreements but chose not to enter the TSGP; and those Indian Tribes that received a Planning Cooperative Agreement, entered the TSGP, and would like to plan for the assumption of new and/or expanded programs. The receipt of a Planning Cooperative Agreement is not a prerequisite to enter the TSGP. A Tribe may use its own resources to meet the planning requirement. Tribes that receive Planning Cooperative Agreements are not obligated to participate in Title V and may choose to delay or decline participation in the TSGP based on its planning activities.

II. Award Information

Type of Award

Cooperative Agreement.

Estimated Funds Available

The total amount of funding identified for the current fiscal year (FY) 2012 is approximately $600,000. Individual award amounts shall not exceed $120,000. Competing awards issued under this announcement are subject to the availability of funds. In the absence of funding, the IHS is under no obligation to make awards that are selected for funding under this announcement.

Anticipated Number of Awards

Approximately five awards will be issued under this program announcement.

Project Period

The project period will be for 12 months and will run from September 30, 2012 to September 29, 2013.

Cooperative Agreement

In the Department of Health and Human Services (HHS), a cooperative agreement is administered under the same policies as a grant. The funding agency (IHS) is required to have substantial programmatic involvement in the project during the entire award segment. Below is a detailed description of the level of involvement required for both IHS and the grantee. The IHS will be responsible for activities listed under section A and the grantee will be responsible for activities listed under section B as stated:

Substantial Involvement Description for Cooperative Agreement

A. IHS Programmatic Involvement

(1) Provide descriptions of PSFAs and associated funding at all organizational levels (Service Unit, Area, and Headquarters), including funding formulas and methodologies related to determining Tribal shares.

(2) Meet with Tribe to provide program information and discuss methods currently used to manage and deliver health care.

(3) Identify and provide statutes, regulations, and policies that provide authority for administering IHS programs.

(4) Provide technical assistance on the IHS budget, Tribal shares, and other topics as needed.

B. Grantee Cooperative Agreement Award Activities

(1) Research and analyze the complex IHS budget to gain a thorough understanding of funding distribution at all organizational levels and to determine which PSFAs the Tribe may elect to assume.

(2) Establish a process by which Tribes can affectively approach the IHS to identify programs and associated funding that could be incorporated into their current programs.

(3) Determine the Tribe's share of each PSFA and evaluate the current level of health care services being provided to make an informed decision on new program assumption(s).

III. Eligibility Information

1. Eligibility

To be eligible for this Limited Competition Planning Cooperative Agreement under this announcement, an applicant must:

A. Be an “Indian Tribe” as defined in 25 U.S.C. 450b(e); a “Tribal Organization” as defined in 25 U.S.C. 450b(l); or an “Inter-Tribal Consortium” as defined at 42 CFR 137.10. Entities must be eligible to receive IHS funds for the provision of health care services pursuant to the ISDEAA in order to be eligible for this award. Pursuant to the Consolidated Appropriations Act, 2012, Public Law 112-74, “the Indian Health Service may not disburse funds for the provision of health care services pursuant to [the ISDEAA] to any Alaska Native village or Alaska Native village corporation that is located within the area served by an Alaska Native regional health entity.”

B. Submit a Tribal resolution from the appropriate governing body of each Indian Tribe to be served by the ISDEAA compact and authorizing the submission of the Planning Cooperative Agreement application. Tribal consortia applying for a TSGP Planning Cooperative Agreement shall submit Tribal Council resolutions from each Tribe in the consortium. Tribal resolutions can be attached to the electronic online application. Draft resolutions can be submitted with the application in lieu of an official signed resolution; however an official signed Tribal resolution must be received by the Division of Grants Management (DGM), prior to the Objective Review on September 6. Official signed resolutions can be mailed to the DGM, Attn: John Hoffman, 801 Thompson Avenue, TMP Suite 360, Rockville, MD 20852. Please contact John Hoffman by telephone at (301) 443-5204 prior to September 6, 2012 regarding submission questions. If the DGM does not receive an official signed resolution by September 5, 2012, then the application will be considered incomplete and ineligible for review or further consideration.

C. Demonstrate, for three fiscal years, financial stability and financial management capability. Applicants are required to submit complete annual audit reports for the three fiscal years prior to the year that the applicant is applying for the Planning Cooperative Agreement. The Indian Tribe must provide evidence that for the three years prior to applying for the Planning Cooperative Agreement, the Tribe has had no uncorrected significant and material audit exceptions in the required annual audit of the Indian Tribe's Self-Determination contracts or Self-Governance Funding Agreements with any Federal agency. See 42 CFR 137.21-23. Scanned electronic copies of the documents can be attached to the electronic online application. If the applicant determines that the audit reports are too lengthy, then the applicants may submit them separately via regular mail by the due date, August 30, 2012. Applicants sending audits via regular mail must submit two copies of the complete audits for the three previous fiscal years under separate cover directly to the DGM, Attn: John Hoffman, 801 Thompson Avenue, TMP Suite 360, Rockville, MD 20852. Applicants must reference the following information in their cover letter transmitting the required complete audits: (1) The Funding Opportunity Number: HHS-2012-IHS-TSGP-0001, (2) the grant tracking number assigned to their electronic submission from http://www.grants.gov, and (3) the date submitted via http://www.grants.gov. If the DGM does not receive this documentation by August 30, 2012, then the application will be considered incomplete and ineligible for review or further consideration.

Please note that meeting eligibility criteria for a Planning Cooperative Agreement does not mean that a Tribe or Tribal Organization will be eligible for participation in the IHS TSGP under Title V of the ISDEAA, 25 U.S.C. 458aaa-2; 42 CFR 137.15-23.

Note: Applicants submitting any of the above documentation after or aside from the online electronic application submission are required to ensure the information is received by the IHS. It is highly recommended that the documentation be sent by a delivery method that includes delivery confirmation and tracking.

(2). Note: Please refer to Section IV.2 (Application and Submission Information/Subsection 2, Content and Form of Application Submission) for additional documents required to determine eligibility for this announcement.

2. Cost Sharing or Matching

The IHS does not require matching funds or cost sharing for grants or cooperative agreements.

3. Other Requirements

If application budgets exceed the highest dollar amount outlined under the “Estimated Funds Available” section within this funding announcement, the application will be considered ineligible and will not be reviewed for further consideration. IHS will not return your application to you. You will be notified by email or certified mail by the DGM of this decision.

Letters of Intent will not be required under this funding opportunity announcement.

IV. Application and Submission Information

1. Obtaining Application Materials

The application package and detailed instructions for this announcement can be found at http://www.Grants.gov or http://www.ihs.gov/NonMedicalPrograms/gogp/index.cfm?module=gogp_funding

Additional information regarding the TSGP may also be found on the OTSG Web site at http://www.ihs.gov/selfgovernance.

For questions regarding the electronic application process, please contact Paul Gettys, DGM Grant Systems Coordinator, by telephone at (301) 443-2114, or by email to Paul.Gettys@ihs.gov.

2. Content and Form Application Submission

The applicant must include the project narrative as an attachment to the application package. Mandatory documents for all applicants include:

• Table of contents.

• Abstract (one page) summarizing the project.

• Application forms:

○ SF-424, Application for Federal Assistance.

○ SF-424A, Budget Information—Non-Construction Programs.

○ SF-424B, Assurances—Non-Construction Programs.

• Budget Justification and Narrative (must be single spaced and not exceed 5 pages).

• Project Narrative (must not exceed 10 pages).

○ Background information on the Tribe.

○ Proposed scope of work, objectives, and activities that provide a description of what will be accomplished, including a one-page Timeframe Chart.

• Tribal Resolution(s).

• 501 (c)(3) Certificate (if applicable).

• Biographical sketches for all Key Personnel.

• Contractor/Consultant resumes or qualifications and scope of work.

• Disclosure of Lobbying Activities (SF-LLL).

• Certification Regarding Lobbying (GG-LobbyingForm).

• Copy of current Negotiated Indirect Cost rate (IDC) agreement (required) in order to receive IDC.

• Organizational Chart (optional).

• Documentation of three years of Office of Management and Budget (OMB) A-133 required Financial Audit (see Section III.1.C. of this announcement for more information).

3. Public Policy Requirements

All Federal-wide public policies apply to IHS grants with exception of the Discrimination policy.

4. Requirements for Project and Budget Narratives

A. Project Narrative: This narrative should be a separate Word document that is no longer than 10 pages and must: be single-spaced, be type written, have consecutively numbered pages, use black type not smaller than 12 characters per one inch, and be printed on one side only of standard size 8-½″ x 11″ paper.

Be sure to succinctly answer all questions listed under the evaluation criteria (refer to Section V.1, Evaluation criteria in this announcement) and place all responses and required information in the correct section (noted below), or they will not be considered or scored. These narratives will assist the Objective Review Committee (ORC) in becoming more familiar with the grantee's activities and accomplishments prior to this possible grant award. If the narrative exceeds the page limit, only the first 10 pages will be reviewed. The 10-page limit for the narrative does not include the work plan, standard forms, Tribal resolutions, table of contents, budget, budget justifications, narratives, and/or other appendix items.

There are three parts to the narrative: Part A—Program Information; Part B—Program Planning and Evaluation; and Part C—Program Report. See below for additional details about what must be included in the narrative.

Part A: Program Information (4-Page Limitation)

Section 1: Needs

Introduce the Tribe's current health program and describe the current level of health care services that are being administered. Describe the organizational capabilities and the need for assistance.

Part B: Program Planning and Evaluation (4-Page Limitation)

Section 1: Program Plans

Propose an improved approach to managing the health programs and indicate how the delivery of quality health care services will be maintained under Self-Governance. Describe the organizational structure of the Tribe and its ability to manage the proposed project. Include resumes or position descriptions of key staff showing requisite experience and expertise. If applicable, include resumes and scope of work for consultants that demonstrate experience and expertise relevant to the project.

Section 2: Program Evaluation

Are the goals and objectives measurable and consistent with the purpose of the program and the needs of the people to be served? Are they achievable within the proposed time frame?

Part C: Program Report (2-Page Limitation)

Section 1: Describe major accomplishments over the last 24 months. Please identify and describe significant health related project activities associated with the delivery of quality health services.

Section 2: Describe major activities over the last 24 months. Please identify and describe significant program achievements associated with the delivery of quality health services, as described in the previous accomplishments section.

B. Budget Narrative: This narrative must describe the budget requested and match the scope of work described in the project narrative. The budget narrative should not exceed 5 pages.

5. Submission Dates and Times

Applications must be submitted electronically through Grants.gov by 12:00 a.m., midnight Eastern Daylight Time (EDT) on August 30, 2012. Any application received after the application deadline will not be accepted for processing, nor will it be given further consideration for funding. You will be notified by the DGM via email or certified mail of this decision.

If technical challenges arise and assistance is required with the electronic application process, contact Grants.gov Customer Support by telephone at (800) 518-4726 or via email to support@grants.gov. Customer Support is available to address questions 24 hours a day, 7 days a week (except on Federal holidays). If problems persist, contact Paul Gettys, DGM Grant Systems Coordinator, by telephone at (301) 443-2114 or via email at Paul.Gettys@ihs.gov. Please be sure to contact Mr. Gettys at least ten days prior to the application deadline with your tracking number received from Grants.gov. In the event you are not able to obtain a tracking number, call the DGM as soon as possible.

If an applicant needs to submit a paper application instead of submitting electronically via Grants.gov, a waiver must be requested. Prior approval for a waiver must be requested and obtained from Tammy Bagley, Acting Director of DGM (see Section IV.8 of this announcement). The waiver must: (1) Be documented in writing (emails are acceptable) to GrantsPolicy@ihs.gov with a copy to Tammy.Bagley@ihs.gov, before submitting a paper application; and (2) include a clear justification for the need to deviate from our standard electronic submission process. Once your waiver request has been approved by the Acting Director of DGM, you will receive a confirmation of approval and the mailing address to submit your paper application. A copy of the written approval from the Acting Director of DGM must be submitted along with the paper application that is submitted to the DGM. Paper applications that are submitted without a waiver from the Acting Director of DGM will not be reviewed or considered further for funding. You will be notified via email or certified mail of this decision by the Grants Management Officer of DGM. Paper applications must be received by the DGM no later than 5:00 p.m., EDT, August 30, 2012. Late applications will not be accepted for processing or considered for funding.

6. Intergovernmental Review

Executive Order 12372 requiring intergovernmental review is not applicable to this program.

7. Funding Restrictions

• Pre-award costs are not allowable.

• Each Planning Cooperative Agreement shall not exceed $120,000, including direct and appropriate indirect costs.

• Although only one Planning Cooperative Agreement will be awarded per applicant per grant cycle, a Tribe may also apply for a Negotiation Cooperative Agreement within the same grant cycle. Both applications will be reviewed separately for merit by the ORC based on evaluation criteria.

8. Electronic Submission Requirements

All applications must be submitted electronically. Please use the “Find Grant Opportunities” link on the http://www.Grants.gov homepage to search for the application either by entering: (1) The CFDA number (93.444), or (2) the Funding Opportunity Number (HHS-20120-IHS-TSGP-0001). Download a copy of the application package, complete it offline, and then upload and submit the completed application via the http://www.Grants.gov Web site. Electronic copies of the application may not be submitted as attachments to email messages addressed to IHS employees or offices.

Applicants that receive a waiver to submit paper application documents must follow the rules and timelines that are noted below. The applicant must seek assistance at least ten days prior to the application deadline.

Applicants that do not adhere to the timelines for Central Contractor Registry (CCR) and/or http://www.Grants.gov registration or that fail to request timely assistance with technical issues will not be considered for a waiver to submit a paper application.

Please be aware of the following:

• Please search for the application package in http://www.Grants.gov by entering the CFDA number or the Funding Opportunity Number. Both numbers are located in the header of this announcement.

• If you experience technical challenges while submitting your application electronically, please contact Grants.gov Support directly at: support@grants.gov or (800) 518-4726. Customer Support is available to address questions 24 hours a day, 7 days a week (except on Federal holidays).

• Upon contacting Grants.gov, obtain a tracking number as proof of contact. The tracking number is helpful if there are technical issues that cannot be resolved and waiver from the agency must be obtained.

• If it is determined that a waiver is needed, you must submit a request in writing (emails are acceptable) to GrantsPolicy@ihs.gov with a copy to Tammy.Bagley@ihs.gov. Please include a clear justification for the need to deviate from our standard electronic submission process.

• If the waiver is approved, the application should be sent directly to the DGM by the deadline date of August 30, 2012.

• Applicants are strongly encouraged not to wait until the deadline date to begin the application process through Grants.gov as the registration process for CCR and Grants.gov could take up to fifteen working days.

• Please use the optional attachment feature in Grants.gov to attach additional documentation that may be requested by the DGM or this announcement.

• All applicants must comply with any page limitation requirements described in this Funding Announcement.

• After you electronically submit your application, you will receive an automatic acknowledgment from Grants.gov that contains a Grants.gov tracking number. The DGM will download your application from Grants.gov and provide necessary copies to the appropriate Program officials. Neither the DGM nor the OTSG will notify applicants that the application has been received.

• Email applications will not be accepted under this announcement.

Dun and Bradstreet (D&B) Data Universal Numbering System (DUNS)

All IHS applicants and grantee organizations are required to obtain a DUNS number and maintain an active registration in the CCR database. The DUNS number is a unique 9-digit identification number provided by D&B which uniquely identifies your entity. The DUNS number is site specific; therefore, each distinct performance site may be assigned a DUNS number. Obtaining a DUNS number is easy, and there is no charge. To obtain a DUNS number, you may access it through http://fedgov.dnb.com/webform, or to expedite the process, call (866) 705-5711.

Effective October 1, 2010, all HHS recipients were asked to start reporting information on subawards, as required by the Federal Funding Accountability and Transparency Act of 2006, as amended (“Transparency Act”). Accordingly, all IHS grantees must notify potential first-tier subrecipients that no entity may receive a first-tier subaward unless the entity has provided its DUNS number to the prime grantee organization. This requirement ensures the use of a universal identifier to enhance the quality of information available to the public pursuant to the “Transparency Act.”

Central Contractor Registry (CCR)

Organizations that have not registered with CCR will need to obtain a DUNS number first and then access the CCR online registration through the CCR home page at https://www.bpn.gov/ccr/default.aspx (U.S. organizations will also need to provide an Employer Identification Number from the Internal Revenue Service that may take an additional 2-5 weeks to become active). Completing and submitting the registration takes approximately one hour and your CCR registration will take 3-5 business days to process. Registration with the CCR is free of charge. Applicants may register online at https://www.bpn.gov/ccrupdate/NewRegistration.aspx.

Additional information on implementing the “Transparency Act,” including the specific requirements for DUNS and CCR, can be found on the IHS Grants Management, Grants Policy Web site: http://www.ihs.gov/NonMedicalPrograms/gogp/index.cfm?module=gogp_policy_topics.

V. Application Review Information

The instructions for preparing the application narrative also constitute the evaluation criteria for reviewing and scoring the application. Weights assigned to each section are noted in parentheses. The narrative section should be written in a manner that is clear to outside reviewers unfamiliar with prior related activities of the applicant. It should be well organized, succinct, and contain all information necessary for reviewers to understand the project fully. Points will be assigned to each evaluation criteria adding up to a total of 100 points. A minimum score of 60 points is required for funding. Points are assigned as follows:

1. Criteria

A. Introduction and Need for Assistance (25 Points)

Describe the applicant's current health program activities, how long it has been operating, what programs or services are currently being provided and if the applicant is currently administering any ISDEAA Title I Self-Determination Contracts. Identify the need for assistance and how the Planning Cooperative Agreement would benefit the health activities the Tribe is currently administering.

B. Project Objective(s), Work Plan and Approach (30 Points)

State in measurable terms the objectives and appropriate activities to achieve each objective for the project listed under Section II. (Grantee Cooperative Agreement Award Activities) of this announcement.

Describe how the goals and objectives are consistent with the purpose of the program and the needs of the people to be served and how they will be achieved within the proposed time frame. Identify the expected results, benefits, and outcomes or products to be derived from each objective of the project.

C. Program Evaluation (10 Points)

Define the criteria to be used to evaluate planning activities. Describe fully and clearly the methodology that will be used to determine if the needs identified for the objectives are being met and if the outcomes identified are being achieved.

D. Organizational Capabilities, Key Personnel and Qualifications (20 Points)

Describe the organizational structure of the Tribe and its ability to manage the proposed project. Include resumes or position descriptions of key staff showing requisite experience and expertise. If applicable, include resumes and scope of work for consultants that demonstrate experience and expertise relevant to the project.

E. Categorical Budget and Budget Justification (15 Points)

Submit a line-item budget with a narrative justification for all expenditures identifying reasonable and allowable costs necessary to accomplish the goals and objectives as outlined in the project narrative.

2. Review and Selection

Each application will be prescreened by the DGM staff for eligibility and completeness as outlined in the funding announcement. The applications that meet the minimum criteria will be reviewed for merit by the ORC based on the evaluation criteria. The ORC is composed of both Tribal and Federal reviewers appointed by the IHS to review and make recommendations on these applications. The technical review process ensures selection of quality projects in a national competition for limited funding. The reviewers will use the criteria outlined in this announcement to evaluate the quality of a proposed project, determine the likelihood of success, and assign a numerical score to each application. The scoring of approved applications will assist the IHS in determining which proposals will be funded if the amount of TSGP funding is not sufficient to support all approved applications. Incomplete applications and applications that are non-responsive to the eligibility criteria will not be referred to the ORC. Applicants will be notified by DGM, via email or letter, to outline minor missing components (i.e., signature on the SF-424, audit documentation, key contact form) needed for an otherwise complete application. All missing documents must be sent to DGM on or before the due date listed in the email of notification of missing documents required.

To obtain a minimum score for funding by the ORC, applicants must address all program requirements and provide all required documentation. Applicants that receive less than a minimum score will be considered to be “Disapproved” and will be informed via email or regular mail by the IHS OTSG Program Official of their application's deficiencies. A summary statement outlining the strengths and weaknesses of the application will be provided to each disapproved applicant. The summary statement will be sent to the Authorized Organizational Representative that is identified on the face page (SF-424), of the application within 60 days of the completion of the Objective Review.

VI. Award Administration Information

1. Award Notices

The Notice of Award (NoA) is a legally binding document signed by the Grants Management Officer and serves as the official notification of the grant award. The NoA will be initiated by the DGM and will be mailed via postal mail or emailed to each entity that is approved for funding under this announcement. The NoA is the authorizing document for which funds are dispersed to the approved entities and reflects the amount of Federal funds awarded, the purpose of the grant, the terms and conditions of the award, the effective date of the award, and the budget/project period.

Disapproved Applicants

Applicants who: (1) Received a score less than 60 points, the recommended approval level; and (2) were deemed to be disapproved by the ORC, will receive an Executive Summary Statement outlining the strengths and weaknesses of the application that was submitted from the IHS OTSG Program Official within 30 days of the conclusion of the ORC. The IHS OTSG Program Official will also provide additional contact information to address questions and concerns as well as provide technical assistance if desired.

Approved but Unfunded Applicants

Approved but unfunded applicants that met the minimum scoring range and were deemed by the ORC to be “Approved”, but were not funded due to lack of funding, will have their applications held by DGM for a period of one year from the date of the official ORC. If additional funding becomes available during the course of FY 2012, then the approved application may be re-considered by the awarding program office for possible funding. The applicant will also receive an Executive Summary Statement from the IHS OTSG Program Official within 30 days of the conclusion of the ORC.

Note: Any correspondence other than the official NoA signed by an IHS Grants Management Official announcing to the Project Director that an award has been made to their organization is not an authorization to implement their program on behalf of IHS.

2. Administrative Requirements

Cooperative Agreements are administered in accordance with the following regulations, policies, and OMB cost principles:

A. The criteria as outlined in this Program Announcement.

B. Administrative Regulations for Grants:

• 45 CFR part 92, Uniform Administrative Requirements for Grants and Cooperative Agreements to State, Local and Tribal Governments.

C. Grants Policy:

• HHS Grants Policy Statement, Revised 01/07.

D. Cost Principles:

• Title 2: Grant and Agreements, Part 225—Cost Principles for State, Local, and Indian Tribal Governments (OMB Circular A-87).

E. Audit Requirements:

• OMB Circular A-133, Audits of States, Local Governments, and Non-profit Organizations.

3. Indirect Costs

This section applies to all grant recipients that request reimbursement of IDC in their grant application. In accordance with HHS Grants Policy Statement, Part II-27, IHS requires applicants to obtain a current IDC rate agreement prior to award. The rate agreement must be prepared in accordance with the applicable cost principles and guidance as provided by the cognizant agency or office. A current rate covers the applicable grant activities under the current award's budget period. If the current rate is not on file with the DGM at the time of award, the IDC portion of the budget will be restricted. The restrictions remain in place until the current rate is provided to the DGM.

Generally, IDC rates for IHS grantees are negotiated with the Division of Cost Allocation http://rates.psc.gov/ and the Department of Interior (National Business Center) http://www.aqd.nbc.gov/services/ICS.aspx. If your organization has questions regarding the IDC, please call the DGM at (301) 443-5204 to request assistance.

4. Reporting Requirements

Grantees must submit required reports consistent with the applicable deadlines. Failure to submit required reports within the time allowed may result in suspension or termination of an active grant, withholding of additional awards for the project, or other enforcement actions such as withholding of payments or converting to the reimbursement method of payment. Continued failure to submit required reports may result in one or both of the following: (1) The imposition of special award provisions; and (2) the non-funding or non-award of other eligible projects or activities. This requirement applies whether the delinquency is attributable to the failure of the grantee organization or the individual responsible for preparation of the reports.

The reporting requirements for this program are noted below.

A. Progress Reports

Program progress reports are required semi annually, within 30 days after the budget period ends. These reports must include a brief comparison of actual accomplishments to the goals established for the period, or, if applicable, provide sound justification for the lack of progress, and other pertinent information as required. A final report must be submitted within 90 days of expiration of the budget/project period.

B. Financial Reports

Federal Financial Report FFR (SF-425), Cash Transaction Reports are due 30 days after the close of every calendar quarter to the Division of Payment Management, HHS at: http://www.dpm.psc.gov. It is recommended that you also send a copy of your FFR (SF-425) report to your Grants Management Specialist (see Section VII.,2., of this announcement). Failure to submit timely reports may cause a disruption in timely payments to your organization.

Grantees are responsible and accountable for accurate information being reported on all required reports: the Progress Reports and Federal Financial Report.

C. Federal Subaward Reporting System (FSRS)

This award may be subject to the “Transparency Act” subaward and executive compensation reporting requirements of 2 CFR part 170.

The “Transparency Act” requires: (1) The OMB to establish a single searchable database, accessible to the public, with information on financial assistance awards made by Federal agencies; and (2) recipients of Federal grants to report information about first-tier subawards and executive compensation under Federal assistance awards.

Effective October 1, 2010, IHS implemented a Term of Award into all IHS Standard Terms and Conditions, NoAs and funding announcements regarding this requirement. This IHS Term of Award is applicable to all IHS grant and cooperative agreements issued on or after October 1, 2010, with a $25,000 subaward obligation dollar threshold met for any specific reporting period. Additionally, all new (discretionary) IHS awards (where the project period is made up of more than one budget period) and where: 1) the project period start date was October 1, 2010 or after and 2) the primary awardee will have a $25,000 subaward obligation dollar threshold during any specific reporting period will be required to conduct address the FSRS reporting. For the full IHS award term implementing this requirement and additional award applicability information, visit the Grants Management Grants Policy Web site at: http://www.ihs.gov/NonMedicalPrograms/gogp/index.cfm?module=gogp_policy_topics.

Telecommunication for the hearing impaired is available at: TTY (301) 443-6394.

VII. Agency Contacts

1. Questions on the programmatic issues may be directed to: Anna Johnson, Program Official, Office of Tribal Self-Governance, 801 Thompson Avenue, Suite 240, Rockville, MD 20852, Phone: (301) 443-7821, Fax: (301) 443-1050, Email: anna.johnson2@ihs.gov.

2. Questions on grants management and fiscal matters may be directed to: John Hoffman, Grants Management Specialist, Division of Grants Management, 801 Thompson Avenue, TMP 360, Rockville, MD 20852, Phone: (301) 443-2116, Fax: (301) 443-9602, Email: John.Hoffman@ihs.gov.

VIII. Other Information

The Public Health Service strongly encourages all cooperative agreement and contract recipients to provide a smoke-free workplace and promote the non-use of all tobacco products. In addition, Public Law 103-227, the Pro-Children Act of 1994, prohibits smoking in certain facilities (or in some cases, any portion of the facility) in which regular or routine education, library, day care, health care, or early childhood development services are provided to children. This is consistent with the HHS mission to protect and advance the physical and mental health of the American people.

Dated: August 1, 2012.
Yvette Roubideaux,
Director, Indian Health Service.

[FR Doc. 2012-19346 Filed 8-7-12; 8:45 am]

BILLING CODE 4165-16-P